CONSUMER PRODUCT SAFETY COMMISSION

Sunshine Act Meeting

Federal Register Citation of Previous Announcement: Vol. 67, No. 207, Friday, October 25, 2002, page 65538.

Previously Announced Time and Date of Meeting: 10:00 a.m., Friday, November 1, 2002.

Changes in Meeting: The Commission decision meeting regarding Petition HP 99-1 requesting a ban of polyvinyl chloride (PVC) in all toys and other products intended for children five years of age and under is canceled. The briefing also on this subject scheduled for October 24, 2002 was also canceled.

For a recorded message containing the latest agenda information, call (301) 504-0709.

FOR FURTHER INFORMATION CONTACT: Todd A. Stevenson, Office of the Secretary, 4330 East West Highway, Bethesda, MD 20207 (301) 504-0800.

Dated: October 28, 2002.
Todd A. Stevenson,
Secretary.

[FR Doc. 02-27743 Filed 10-28-02; 2:36 pm]

BILLING CODE 6355-01-M